DEPARTMENT OF COMMERCE

Foreign-Trade Zones Board

[Order No. 1124]

Expansion of Foreign-Trade Zone 78 and Authority To Conduct Manufacturing Authority (Computer Products); Nashville, Tennessee

Pursuant to its authority under the Foreign-Trade Zones Act of June 18, 1934, as amended (19 U.S.C. 81a-81u), the Foreign-Trade Zones Board (the Board) adopts the following Order:

Whereas, the Metropolitan Government of Nashville and Davidson County (Tennessee), grantee of Foreign-Trade Zone 78, submitted an application to the Board for authority to expand FTZ 78 to include two new sites, as well as for manufacturing authority (computer products) within those sites for Dell Computer Corporation (FTZ Docket 23-2000; filed 6/1/2000);

Whereas, notice inviting public comment was given in Federal Register (65 FR 36888, 6/12/2000) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 78, and for manufacturing authority for Dell Computer Corporation, is approved, subject to the Act and the Board's regulations, including Section 400.28.

Signed at Washington, DC, this 24th day of October 2000.
Troy H. Cribb,
Acting Assistant Secretary of Commerce for Import Administration, Alternate Chairman, Foreign-Trade Zones Board.

Attest:

Dennis Puccinelli,

Executive Secretary.

[FR Doc. 00-28287 Filed 11-2-00; 8:45 am]

BILLING CODE 3510-DS-P